OFFICE OF THE UNITED STATES TRADE REPRESENTATIVE

Trade Policy Staff Committee; Public Comments on the Caribbean Basin Economic Recovery Act and the Caribbean Basin Trade Partnership Act: Report to Congress

AGENCY: Office of the United States Trade Representative.

ACTION: Notice and solicitation of public comment.

SUMMARY: The Trade Policy Staff Committee (TPSC) is seeking the views of interested parties on the operation of the Caribbean Basin Economic Recovery Act (CBERA), as amended by the Caribbean Basin Trade Partnership Act (CBTPA) (19 U.S.C. 2701 et seq.). Section 212(f) of the CBERA, as amended, requires the President to submit a report to the Congress regarding the operation of the CBERA and CBTPA (known collectively as the Caribbean Basin Initiative, or CBI) on or before December 31, 2001 and every two years thereafter. The TPSC invites written comments concerning the operation of the CBI and on the performance of CBTPA beneficiary countries under the criteria described in section 213(b)(5)(B) of the CBERA, as amended.

DATES: Public comments are due at USTR by September 14, 2001.

ADDRESSES: Office of the U.S. Trade Representative, 600 17th Street NW., Washington, DC 20508

FOR FURTHER INFORMATION CONTACT: Christopher Wilson, Director for Central America and the Caribbean, Office of the Americas, Office of the United States Trade Representative, (202) 395-5190.

SUPPLEMENTARY INFORMATION: Interested parties are invited to submit comments on any aspect of the program's operation, including the performance of beneficiary countries under the criteria described in section 213(b)(5)(B) of the CBERA, as amended, and provided below. Other issues to be examined in this report include: The CBI's effect on the volume and composition of trade and investment between the United States and the Caribbean Basin beneficiary countries; its effect in promoting economic growth and development of the beneficiary countries; and its effect in advancing U.S. trade policy goals as set forth in the CBTPA.

Current CBERA/CBTPA Beneficiary Countries: Antigua and Barbuda, Aruba, Bahamas, Barbados, Belize, Costa Rica, Dominica, Dominican Republic, El Salvador, Grenada, Guatemala, Guyana, Haiti, Honduras, Jamaica, Montserrat, Netherlands Antilles, Nicaragua, Panama, St. Kitts and Nevis, Saint Lucia, Saint Vincent and the Grenadines, Trinidad and Tobago, and British Virgin Islands.

CBTPA Criteria

(1) Whether the beneficiary country has demonstrated a commitment to undertake its obligations under the WTO on or ahead of schedule and participate in negotiations toward the completion of the FTAA or another free trade agreement.

(2) The extent to which the country provides protection of intellectual property rights consistent with or greater than the protection afforded under the Agreement on Trade-Related Aspects of Intellectual Property Rights.

(3) The extent to which the country provides internationally recognized worker rights, including—

“(I) the right of association;

“(II) the right to organize and bargain collectively;

“(III) a prohibition on the use of any form of forced or compulsory labor;

“(IV) a minimum age for the employment of children; and

“(V) acceptable conditions of work with respect to minimum wages, hours of work, and occupational safety and health;

(4) Whether the country has implemented its commitments to eliminate the worst forms of child labor.

(5) The extent to which the country has met U.S. counter-narcotics certification criteria under the Foreign Assistance Act of 1961.

(6) The extent to which the country has taken steps to become a party to and implements the Inter-American Convention Against Corruption.

(7) The extent to which the country applies transparent, nondiscriminatory and competitive procedures in government procurement, and contributes to efforts in international fora to develop and implement rules on transparency in government procurement.

Public Comment

Written comments should be addressed to Gloria Blue, Executive Secretary, TPSC, Office of the U.S. Trade Representative, Room F516, 600 17th Street, NW., Washington, DC 20508. Twenty copies must be submitted. Comments must be submitted by 5 p.m. on September 14, 2001. Non-confidential information received will be available for public inspection by appointment, in the USTR Reading Room, Monday through Friday, 10 a.m. to 12 noon and 1 p.m. to 4 p.m. For an appointment call Brenda Webb on 202-395-6186. All submissions must be in English and should conform to the information requirements of 15 CFR part 2003. Any business confidential material must be clearly marked as such on the cover letter or page and each succeeding page, and must be accompanied by a non-confidential summary thereof.

Carmen Suro-Bredie,
Chair, Trade Policy Staff Committee.

[FR Doc. 01-20145 Filed 8-9-01; 8:45 am]

BILLING CODE 3190-01-P